DEPARTMENT OF HEALTH AND HUMAN SERVICES

National Institutes of Health

National Institute of Neurological Disorders and Stroke; Amended Notice of Meeting

Notice is hereby given of a change in the meeting of the National Advisory Neurological Disorders and Stroke Council, September 9, 2004, 8 a.m. to September 9, 2004, 10 a.m., National Institutes of Health, Building 31, 31 Center Drive, Bethesda, MD, 20892 which was published in the Federal Register on August 20, 2004, FR69 04-19134.

The Training and Career Development Subcommittee meeting to be held on September 9th will be open to the public from 8-9:30 a.m. and closed from 9:30-10 a.m. The meeting is partially Closed to the public.

Dated: August 30, 2004.
LaVerne Y. Stringfield,
Director, Office of Federal Advisory Committee Policy.

[FR Doc. 04-20449 Filed 9-8-04; 8:45 am]

BILLING CODE 4140-01-M